DEPARTMENT OF THE TREASURY

Submission for OMB Review; Comment Request

December 1, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury PRA Department Clearance Officer, Department of the Treasury, Room 11010, and 1750 Pennsylvania Avenue, NW., Washington, DC 20220.

DATES: Written comments should be received on or before January 6, 2010 to be assured of consideration.

Internal Revenue Service (IRS)

OMB Number: 1545-1440.

Type of Review: Extension.

Title: INTL-64-93 (Final) Conduit Arrangements Regulations.

Description: This document contains regulations relating to when the area director may recharacterize a financing arrangement as a conduit arrangement. Such recharacterization will affect the amount of withholding tax due on financing transactions that are part of the financing arrangement. These regulations will affect withholding agents and foreign investors.

Respondents: Businesses or other for-profits.

Estimated Total Burden Hours: 10,000 hours.

OMB Number: 1545-0393.

Type of Review: Extension.

Title: Return Requesting Refund Un-locatable or Not Filed.

Description: The code requires tax returns to be filed. It also authorizes IRS to refund any overpayment of tax. If a taxpayer inquires about their non-receipt of refund and no return is found, this letter is sent requesting the taxpayer to file another return.

Respondents: Businesses or other for-profits.

Estimated Total Burden Hours: 1,513 hours.

OMB Number: 1545-1560.

Type of Review: Extension.

Title: REG-246250-96 (Final) Public Disclosure of Material Relating to Tax-Exempt Organizations.

Description: The collections of information in section 301.6104(d)-3, 301.6104(d)-4 and 301.6104(d)-5 are necessary so that tax-exempt organizations can make copies of their applications for tax exemption and annual information returns available to the public.

Respondents: Not-for-profit institutions.

Estimated Total Burden Hours: 551,500 hours.

OMB Number: 1545-1695.

Type of Review: Extension.

Title: Revenue Ruling 2000-33, Deferred Compensation Plans of State and Local Governments and Tax-Exempt Organizations.

Description: This revenue ruling specifies the conditions the plan sponsor should meet to automatically defer a certain percentage of its employees' compensation into their accounts in an eligible deferred compensation plan.

Respondents: State, Local, and Tribal governments.

Estimated Total Burden Hours: 500 hours.

Clearance Officer: R. Joseph Durbala (202) 622-3634, Internal Revenue Service, Room 6516, 1111 Constitution Avenue, NW., Washington, DC 20224.

OMB Reviewer: Shagufta Ahmed (202) 395-7873, Office of Management and Budget, Room 10235, New Executive Office Building, Washington, DC 20503.

Celina M. Elphage,
Treasury PRA Clearance Officer.

[FR Doc. E9-29028 Filed 12-4-09; 8:45 am]

BILLING CODE 4830-01-P